DEPARTMENT OF DEFENSE

Department of the Navy

Notice of Availability of Government-Owned Inventions; Available for Licensing

AGENCY: Department of the Navy, DOD.

ACTION: Notice.

SUMMARY: The inventions listed below are assigned to the U.S. Government as represented by the Secretary of the Navy and are available for licensing by the Department of the Navy.

U.S. Patent No. 6,435,795: CARGO LOAD RETRACTABLE RECEIVER.//U.S. Patent No. 6,443,416: PIEZOELECTRICALLY CONTROLLED VIBRATION REDUCING MOUNT SYSTEM.//U.S. Patent No. 6,456,069: FLUXGATE MAGNETIC FIELD SENSOR INCORPORATING FERROMAGNETIC TEST MATERIAL INTO ITS MAGNETIC CIRCUITY. //U.S. Patent No. 6,457,672: PROPULSION NACELLE ALIGNMENT SYSTEM FOR TILT-ROTOR AIRCRAFT.//U.S. Patent No. 6,459,596: METHOD AND APPARATUS FOR A REDUCED PARTS-COUNTS MULTILEVEL RECTIFIER.//U.S. Patent No. 6,460,490: FLOW CONTROL SYSTEM FOR A FORCED RECIRCULATION BOILER.//U.S. Patent No. 6,462,561: STANDOFF DISTANCE VARIATION COMPENSATOR AND EQUALIZER.//U.S. Patent No. 6,466,888: NEURAL NETWORK SYSTEM FOR ESTIMATION OF AIRCRAFT FLIGHT DATA.//U.S. Patent No. 6,481,363: HYDRODYNAMIC PROPULSION FLOW CONTROL FOR MODIFICATION OF FLAP CONTROLLED LIFT.//U.S. Patent No. 6,489,695: EFFICIENCY MAXIMIZED CONVERSION OF ELECTRICAL TO MECHANICAL ENERGY BY MAGNETOSTRICTIVE TRANSDUCTION.//U.S. Patent No. 6,495,088: METHOD OF MANUFACTURING REIN INFUSED CORE STRUCTURE.//U.S. Patent No. 6,505,571: HYBRID HULL CONSTRUCTION FOR MARINE VESSELS.//U.S. Patent No. 6,507,793: METHOD FOR MEASURING VORTICITY.//U.S. Patent No. 6,507,798: TIME-FREQUENCY DEPENDENT DAMPING VIA HILBERT DAMPING SPECTRUM.//U.S. Patent No. 6,514,435: HIGH DENSITY AND FAST PERSISTENT SPECTRAL HOLEBURNING IN II-VI COMPOUNDS FOR OPTICAL DATA STORAGE.//U.S. Patent No. 6,516,603: GAS TURBINE ENGINE SYSTEM WITH WATER INJECTION.//U.S. Patent No. 6,517,289: INFLATABLE VIBRATION REDUCING FAIRING.//U.S. Patent No. 6,522,996: NON-STATIONARY/TRANSIENT SIGNAL FEATURE EXTRACTION SYSTEM.//U.S. Patent No. 6,527,226: FLIGHT DECK HANDLING SYSTEM FOR LANDED AIRCRAFT.//U.S. Patent No. 6,528,234: II-IV COMPOUNDS AS A MEDIUM FOR OPTICAL DATA STORAGE THROUGH FAST PERSISTENT HIGH DENSITY SPECTRAL HOLEBURNING.//U.S. Patent No. 6,530,337: UNDERWATER EXPLOSION PROTECTION FOR WATERCRAFT.//U.S. Patent No. 6,533,257: COMPOSITE VIBRATION DAMPING SYSTEM.//U.S. Patent No. 6,536,366: UNDERWATER EXPLOSION TEST VEHICLE.//U.S. Patent No. 6,540,442: HIGH ENERGY IMPACT ABSORPTION FENDER SYSTEM USING VALVULAR CONTROL LOGIC.//U.S. Patent No. 6,543,273: EFFICIENT USE OF METALLIC MATERIALS FOR DYNAMIC TEAR TESTING.//U.S. Patent No. 6,543,486: LEAKAGE PLUGGING METHOD AND IMPLEMENT.//U.S. Patent No. 6,544,000: MAGNETOSTRICTIVE ADJUSTMENT OF PROPELLER BLADE.//U.S. Patent No. 6,545,118: POLYMER HAVING NETWORK STRUCTURE.//U.S. Patent No. 6,546,349: OPTIMAL DEGAUSSING USING AN EVOLUTION PROGRAM.//U.S. Patent No. 6,558,218: OVERBOARD RESCUE SYSTEM.//U.S. Patent No. 6,561,739: LOAD TRANSPORTING MODULAR PLATFORM SYSTEM.//U.S. Patent No. 6,564,652: X-WIRE PROBE FOR VELOCITY MEASUREMENTS NEAR THE DOWNSTREAM EDGE OF AN APERTURE.//U.S. Patent No. 6,567,788: PROGRAMMED LOGISTIC SYSTEM AND METHOD FOR TRANSPORTATION AND RECEPTION OF COMMODITIES.//U.S. Patent No. 6,570,819: LOW FREQUENCY ACOUSTIC PROJECTOR.//U.S. Patent No. 6,571,724: STERN DEPRESSOR TYPE MOTION STABILIZATION SYSTEM FOR MARINE VESSEL.//U.S. Patent No. 6,575,113: COOLED JET BLAST DEFLECTORS FOR AIRCRAFT CARRIER FLIGHT DECKS.//U.S. Patent No. 6,578,441: CRANE TESTING APPARATUS AND ASSOCIATED LOAD TESTING METHOD.//U.S. Patent No. 6,580,388: CALCULATION METHODOLOGY FOR COMPLEX TARGET SIGNATURES. //U.S. Patent No. 6,591,246: AUTOMATED SKILLS PROGRAM. //U.S. Patent No. 6,591,773: PROTECTIVE FENDERING SYSTEM FOR OFF-SHORE CARGO TRANSFERRING SURFACE SHIPS.

ADDRESSES: Requests for copies of the patents cited should be directed to: Naval Surface Warfare Center Carderock Division, Code 0117, 9500 MacArthur Blvd, West Bethesda, MD 20817-5700, and must include the patent number.

FOR FURTHER INFORMATION CONTACT: Mr. Dick Bloomquist, Director, Technology Transfer Office, Naval Surface Warfare Center Carderock Division, Code 0117, 9500 MacArthur Blvd, West Bethesda, MD 20817-5700, telephone (301) 227-4299.

Authority: 35 U.S.C. 207, 37 CFR part 404.

Dated: July 29, 2003.
E.F. McDonnell,
Major, U.S. Marine Corps, Federal Register Liaison Officer.

[FR Doc. 03-20216 Filed 8-7-03; 8:45 am]

BILLING CODE 3810-FF-P